DEPARTMENT OF COMMERCE

International Trade Administration

[A-570-806]

Silicon Metal from the People's Republic of China: Notice of Extension of Time Limit for Final Results of 2005/2006 New Shipper Reviews

AGENCY: Import Administration, International Trade Administration, Department of Commerce.

EFFECTIVE DATE: July 25, 2007.

FOR FURTHER INFORMATION CONTACT: Scot Fullerton or Michael Quigley, AD/CVD Operations, Office 9, Import Administration, International Trade Administration, U.S. Department of Commerce, 14th Street and Constitution Avenue, NW, Washington, DC 20230; telephone: (202) 482-1386 or (202) 482-4047, respectively.

SUPPLEMENTARY INFORMATION:

Background

On May 21, 2007, the Department of Commerce (the Department) published in the Federal Register the preliminary results of these new shipper reviews. See Silicon Metal from the People's Republic of China: Preliminary Results of the 2005/2006 New Shipper Reviews, 72 FR 28467 (May 21, 2007). The final results of these reviews are currently due by August 9, 2007.

Extension of Time Limits for Final Results

Section 751(a)(2)(B)(iv) of the Tariff Act of 1930, as amended (the Act), and 19 CFR 351.214(i)(1) require the Department to issue the preliminary results of a new shipper review within 180 days after the date on which the new shipper review was initiated and final results of a review within 90 days after the date on which the preliminary results were issued. The Department may, however, extend the deadline for completion of the final results of a new shipper review to 150 days if it determines that the case is extraordinarily complicated. See section 751(a)(2)(B)(iv) of the Act, and 19 CFR 351.214(i)(2).

The Department has determined that these new shipper reviews are extremely complicated because of the numerous and complex issues raised by interested parties in their case briefs concerning surrogate country and surrogate value selection. Therefore, the Department finds that it is not practicable to complete these new shipper reviews within the current time limit. Accordingly, the Department is extending the time limit for the completion of the final results by 60 days until October 8, 2007, in accordance with section 751(a)(2)(B)(iv) of the Act and 19 CFR 351.214(i)(2). However, because October 8, 2007, is a federal holiday, the final results will be due on October 9, 2007, the next business day.

We are issuing and publishing this notice in accordance with sections 751(a)(2)(B) and 777(i)(1) of the Act.

Dated: July 18, 2007.
Stephen J. Claeys,
Deputy Assistant Secretary for Import Administration.

[FR Doc. E7-14371 Filed 7-24-07; 8:45 am]

BILLING CODE 3510-DS-S